DEPARTMENT OF COMMERCE

National Oceanic and Atmospheric Administration

Federal Consistency Appeal by Islander East Pipeline Company From an Objection by the Connecticut Department on Environmental Protection

AGENCY: National Oceanic and Atmospheric Administration (NOAA), Department of Commerce (Commerce).

ACTION: Notice of stay of appeal proceedings.

SUMMARY: This notice: (1) Announces that processing of Islander East's administrative appeal (Consistency Appeal of Islander East Pipeline Company, L.L.C.) has been suspended, at the request of Islander East Pipeline Company and the State of Connecticut, through May 1, 2003; and (2) provides information about procedural aspects of the appeal that are affected by the stay of appeal proceedings.

DATES: The stay of appeal proceedings extends through May 1, 2003. The public comment period ends on May 8, 2003, but will extended assuming processing of the appeal resumes. The federal agency comment period has been extended to run through May 1, 2003, and will be further extended after the appeal has recommended.

ADDRESSES: All e-mail comments on issues relevant to the Secretary's decision of this appeal may be submitted to IslanderEast.comments@noaa.gov. Comments may also be sent by mail to the Office of the General Counsel for Ocean Services, National Oceanic and Atmospheric Administration, U.S. Department of Commerce, 1305 East-West Highway, Silver Spring, MD 20910. Materials from the appeal record are available at the Internet site http://www.ogc.doc.gov/czma.htm and at the Office of the General Counsel for Ocean Services. Also, public filings made by the parties of the appeal are to be available for review at the Connecticut Department of Environmental Protection, 79 Elm Street, Hartford, CT.

FOR ADDITIONAL INFORMATION CONTACT: Branden Blum, Senior Counselor, NOAA Office of the General Counsel, via e-mail at GCOS.inquiries@noaa.gov, or at 301-713-2967, extension 186.

SUPPLEMENTARY INFORMATION: In November 2002, the Islander East Pipeline Company, L.L.C. (Islander East) filed a notice of appeal with the Department of Commerce, pursuant to the Coastal Zone Management Act of 1972 (CZMA), as amended, asking that the Secretary of Commerce override the State of Connecticut's objection to Islander East's proposed natural gas pipeline. The pipeline would extend from near North Haven, Connecicut, across the Long Island Sound to a terminus in Suffolk County (Long Island), New York. Connecticut's objection is based on the project's potential effects on the natural resources or land and water uses of Connecticut's coastal zone.

On March 14, 2003, Islander East requested, on behalf of itself and the State of Connecticut, that the Department's processing of the appeal be stayed in order to allow settlement negotiations to occur between the parties. The requested stay on March 17, 2003.

In addition to announcing the stay, this Federal Register notice provides information concerning procedural aspects of the Islander East appeal that are affected by the stay. The public comment period, which runs through May 8, 2003, will remain open during the stay. The federal agency comment period, which is scheduled to close on April 14, 2003, will remain open and be extended through May 1, 2003. After processing of the appeal resumes, both comment periods will be extended for a period generally commensurate with the length of the stay, taking into account the filing date for the State of Connecticut's initial brief. (The State's brief had been due on March 24, 2003. In light of the stay, the State's brief is now due 45 days after the appeal has recommenced.)

The scheduling of a public hearing on the appeal will be delayed until after processing of the appeal resumes, consistent with the request of Islander East and the State. A previous Federal Register notice indicated the location and date for the hearing would be announced in early March 2003. See 68 FR 5620.

A summary of relevant issues as well as additional background on the appeal appears in a January 24, 2003 Federal Register announcement, 68 FR 3513, a copy of which can be found at the Department of Commerce CZMA appeals Web site, http://www.ogc.doc.gov/czma/htm. The Web site also provides access to documents from the appeal record, such as the request to stay the proceedings of Islander East's appeal, and general information concerning the appeal process.

Questions about the stay for the Islander East appeal may be sent to NOAA via e-mail (GCOS.inquiries@noaa.gov)or made by telephone (301-713-2967, extension 186).

(Federal Domestic Assistance Catalog No. 11.419 Coastal Zone Management Program Assistance)
Dated: March 19, 2003.
James R. Walpole,
General Counsel.

[FR Doc. 03-7016 Filed 3-24-03; 8:45 am]

BILLING CODE 3510-08-M